ENVIRONMENTAL PROTECTION AGENCY

[OPP-2002-0092; FRL-7184-8]

List of Pests of Significant Public Health Importance; Notice of Availability

AGENCY: Environmental Protection Agency (EPA).

ACTION: Notice.

SUMMARY: This notice identifies pests of significant public health importance. Section 28(d) of the Federal Insecticide, Fungicide, and Rodenticide Act (FIFRA) requires EPA, in coordination with, the U.S. Department of Health and Human Services (HHS), and U.S. Department of Agriculture (USDA), to identify pests of significant public health importance and, in coordination with the Public Health Service, to develop and implement programs to improve and facilitate the safe and necessary use of chemical, biological, and other methods to combat and control such pests of public health importance. Issuance of this list fulfills the requirement of FIFRA section 28(d) to identify pests of significant public health importance as a part of this process.

FOR FURTHER INFORMATION CONTACT: Robyn Rose, Biopesticides and Pollution Prevention Division (7511C), Office of Pesticide Programs, Environmental Protection Agency, 1200 Pennsylvania Ave., NW., Washington, DC 20460; telephone number: (703) 308-9581; fax number: (703) 308-7026; e-mail address: rose.robyn@epa.gov.

SUPPLEMENTARY INFORMATION:

I. General Information

A. Does This Action Apply to Me?

This action is directed to the public in general. This action may, however, be of interest to those persons who are or may be required to conduct testing of chemical substances under the Federal Food, Drug, and Cosmetic Act (FFDCA), or FIFRA. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about OPP-2202-0092, go directly to the Home Page for the Office of Pestice Programs (OPP) at http://www.epa.gov/pesticides, and select “pesticide registration notices.”

2. In person. The Agency has established an official record for this action under docket ID number OPP-2002-0092. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. What Guidance Does This Pesticide Reregistration (PR) Notice Provide?

The publication of the list does not affect the regulatory status of any registration or application for registration of any pesticide product. The list does not, by itself, determine whether a pesticide product might be considered a “public health pesticide” as that term is used in FIFRA. That term, as defined in FIFRA section 2(nn), requires consideration of the context of the pesticide use, including minor use status and use of the pesticide in public health control programs. Determining whether a pesticide is a public health pesticide is beyond the scope of the PR Notice.

Compilation of the list was a cooperative effort by HHS, USDA, and EPA. EPA coordinated the review by experts in public health and/or pesticide use patterns to compile this list. No person is required to take any action in response to this notice.

This PR Notice was developed from a draft document by the same title that was released for public comment on May 29, 2000 (65 FR 16615) (FRL-6498-2). The Agency received comments from various organizations. Commenters offered recommendations for improving the document. All comments were evaluated and considered by the Agency. This revised version embodies some of the recommendations of the commenters. A summary of the public comments, as well as the Agency's response to the comments, is being made available as described in Unit I.B.2.

III. Do PR Notices Contain Binding Requirements?

The PR Notice discussed in this notice is intended to provide guidance to EPA personnel, decision makers, and to pesticide registrants. While the requirements in the statutes and Agency regulations are binding on EPA and the applicants, the PR Notice is not binding on either EPA or pesticide registrants, and EPA may depart from the guidance where circumstances warrant and without prior notice. Likewise, pesticide registrants may assert that the guidance is not appropriate generally or not applicable to a specific pesticide or situation.

List of Subjects

Environmental protection, Administrative practice procedure, Agricultural commodities, Pesticides and pests.

Dated: August 3, 2002.
Marcia E. Mulkey,
Director, Office of Pesticide Programs.

[FR Doc. 02-22816 Filed 9-10-02; 8:45 am]

BILLING CODE 6560-50-S